FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011421-024.

Title: The East Coast South America Discussion Agreement.

Parties:

Crowley American Transport

Alianca Transportes Maritimos S.A.

Columbus Line

Lykes Lines Ltd., LLC

APL Co. PTE. Ltd.

P&O Nedlloyd B.V. and P&O Nedlloyd Limited

Pan American Independent Line

Zim Israel Navigation Co., Ltd.

Mediterranean Shipping Co. S.A.

Euroatlantic Container Line S.A.

Senator Lines GmbH

A.P. Moller-Maersk Sealand

Compania Sud Americana de Vapores, S.A.

Evergreen Marine Corporation (Taiwan) Limited

Braztrans Transportes Maritimos Limitada

Compania Libra de Navegacao

Synopsis: The proposed amendment sets out the obligations of the members with respect to the payment of Agreement expenses and would permit the expulsion of members who fail to meet those obligations.

Agreement No.: 011426-030.

Title: The West Coast South America Discussion Agreement.

Parties:

Crowley American Transport

Seaboard Marine Ltd.

Columbus Line

Compania Chilena de Navegacion Interoceania, S.A.

APL Co. PTE. Ltd.

P&O Nedlloyd B.V.

South America Independent Association and its members:

Trinity Shipping Line, SA

Interocean Lines Inc.

Mediterranean Shipping Co. S.A.

South Pacific Shipping Company, Ltd. d/b/a

Ecuadorian Line

NYK/NOS Joint Service

A.P. Moller-Maersk Sealand

Compania Sud Americana de Vapores, S.A.

Synopsis: The proposed amendment sets out the obligations of the members with respect to the payment of Agreement expenses and would permit the expulsion of members who fail to meet those obligations.

Agreement No.: 011722.

Title: New World Alliance/A.P. Moller Maersk-Sealand Slot Exchange Agreement.

Parties:

A.P. Moller-Maersk Sealand

American President Lines, Ltd

APL Co. PTE Ltd.

Hyundai Merchant Marine Co., Ltd

Mitsui O.S.K. Lines, Ltd.

Synopsis: The agreement authorizes the parties to exchange slot spaces on each others vessels in the trade between U.S. Atlantic and Gulf Coast ports and ports in Northern Europe.

Agreement No.: 011723.

Title: New World Alliance Facilitation Agreement.

Parties:

American President Lines, Ltd

APL Co. PTE Ltd.

Hyundai Merchant Marine Co., Ltd

Mitsui O.S.K. Lines, Ltd.

Synopsis: The agreement allows the members of the New World Alliance (TNWA) to undertake the rights, powers, obligations and liabilities granted them as a group by the New World Alliance/Maersk Sealand Agreement (TNWA/MSL) and to establish initial sub-allocations of slots under TNWA/MSL to TNWA members, initial vessel contributions by the TNWA parties, and provide that the agreement shall remain in effect as long as the TNWA/MSL Agreement remains in effect.

Agreement No.: 201075-002.

Title: Terminal Agreement between The Port of Oakland and Maersk Pacific, Ltd.

Parties:

The Port of Oakland

Maersk Line Pacific, Ltd. Service, Inc.

Synopsis: The amendment provides for changes in the use of certain areas as a result of the new relationships among the various Maersk and the Sea-Land companies. It also extends the agreement through December 31, 2004.

Dated: September 1, 2000.
By Order of the Federal Maritime Commission.
Bryant L. VanBrakle,
Secretary.

[FR Doc. 00-23009 Filed 9-6-00; 8:45 am]

BILLING CODE 6730-01-P